DEPARTMENT OF ENERGY

Federal Energy Regulatory Commission

[Project No. 12053-002]

Nicholas Josten; Notice Dismissing Complaint

May 3, 2006.

On April 10, 2006, Stephen J. Bruzzone and Linda L. Bruzzone filed a complaint against Nicholas Josten, applicant for an exemption for the West Valley A&B Hydroelectric Project No. 12053.¹ The project is proposed to be located on the South Fork of the Pit River in Modoc County, California. The project would be located on approximately 31 acres of federal lands, managed by Forest Service and Bureau of Land Management. The pleading generally alleges that Nicholas Josten has made misrepresentations in information he filed in support of his application for exemption.²

¹ The proposed project would consist of two developments, West Valley A and West Valley Alternative B-1. West Valley A would be a run-of-river development with a capacity of 1.0 MW and would consist of: An existing concrete diversion structure; an existing intake structure; 11,600 feet of an existing open canal; a proposed concrete overflow structure; proposed 2,800 feet of new canal; a proposed 400-foot-long penstock; a proposed powerhouse; a proposed tailrace pipe; a proposed 3,000-foot-long, 12.3-kilovolt (kV) transmission line; and appurtenant facilities.

West Valley Alternative B-1 would be a run-of-river development with a capacity of 1.36 MW and would consist of: The existing West Valley Dam and outlet works; a new bypass valve attached to the existing dam outlet pipe; a proposed 2,850-foot-long penstock; a proposed powerhouse; a proposed tailrace canal; a proposed 4.5-mile-long, 12.3-kV transmission line; and appurtenant facilities.

² In particular, they assert that Mr. Josten provided the Commission with misleading information regarding water flow tables submitted on March 23, 2006.

The issues raised in the pleading relate to consideration of the application for exemption. As such, they are not properly the subject of a formal complaint. Accordingly, the complaint is dismissed and the comments raised in the pleading will be considered in the exemption proceeding.³

³ On April 20, 2006, Commission staff issued a notice that the application was ready for environmental analysis and soliciting comments, terms and conditions and recommendations. Comments are due by June 19, 2006.

Magalie R. Salas,
Secretary.

[FR Doc. E6-7186 Filed 5-10-06; 8:45 am]

BILLING CODE 6717-01-P